COMMISSION ON CIVIL RIGHTS

Sunshine Act Meeting

AGENCY: United States Commission on Civil Rights.

ACTION: Notice of Commission public business meeting.

DATES: Friday, June 18, 2021, 12:00 p.m. EST.

FOR FURTHER INFORMATION CONTACT: Angelia Rorison: 202-376-7700; publicaffairs@usccr.gov.

ADDRESSES: Meeting to take place by telephone and is open to the public by telephone: 887-260-1479, Conference ID #: 9200350. Computer assisted real-time transcription (CART) will be provided. The web link to access CART (in English) on Friday, June 18th, 2021, is https://www.streamtext.net/player?event=USCCR. Please note that CART is text-only translation that occurs in real time during the meeting and is not an exact transcript.

Meeting Agenda

I. Approval of Agenda

II. Business Meeting

A. Discussion and Vote on Release of Racial Disparities in Maternal Health Report

B. Discussion and Vote on Appointments to an Advisory Committee

C. Discussion and Vote on Revision to Commission Bail Reform Report Timeline

D. Management and Operations

• Staff Director's Report

III. Adjourn Meeting

Dated June 16, 2021.
Angelia Rorison,
Media and Communications Director, U.S. Commission on Civil Rights.

[FR Doc. 2021-13117 Filed 6-17-21; 11:15 am]

BILLING CODE 6335-01-P